DEPARTMENT OF HEALTH AND HUMAN SERVICES

Centers for Disease Control and Prevention

[30Day-53-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

A Community-based Intervention Model to Promote Neighborhood Participation in the Reduction of Aedes aegypti Indices in Puerto Rico—Reinstatement with change—National Center for Infectious Diseases (NCID), Centers for Disease Control and Prevention (CDC). The Aedes aegypti mosquito transmits dengue, a mosquito-borne viral disease of the tropics. The symptoms of dengue disease include fever, headache, rash, retro-orbital pain, myalgias, arthralgias, nausea or vomiting, abdominal pain, and hemorrhagic manifestations.

Since there is no vaccine available to prevent dengue, prevention efforts are directed to control the vector mosquito. The limited efficacy of insecticides in preventing disease transmission has prompted the search for new approaches involving community participation.

Research in Puerto Rico, where dengue is endemic and intermittently epidemic, has shown that levels of awareness about dengue are very high in the population and that the next step should be the translation of this knowledge into practice (behavior change). To achieve this goal, a model of community participation to prevent and control dengue should be developed. This model of community participation must be an effectively implemented prevention project.

The objective of the dengue prevention project is to develop and evaluate a community-based participation intervention model that will reduce Aedes aegypti infestation in a community in Puerto Rico. To accomplish this, two comparable communities in the San Juan, Puerto Rico area will be selected for this study. One community will be a “control community” and the second community will be an “intervened community.” Entomologic surveys and person-to-person interviews to assess knowledge, attitudes, and practices (KAP) will be conducted during the project in both communities. The entomologic surveys and person-to-person interviews will be conducted three times during the project: the beginning of the project, the end of the first year of the project, and 18 months after the beginning of the project.

An additional interview will also be conducted in the intervened community to assess the function and significance of artificial containers that hold water. An ethnographic assessment will be performed to determine the resources and needs of the intervened community. The specific dengue prevention activities that the intervened community will perform will be based on results of the initial entomologic survey, KAP, function and significance of artificial containers, and the ethnographic assessment of the community. The total estimated annualized burden is 755 hours.

Forms | Number of respondents | Number of responses/respondent | Average burden/response (in hrs)
KAP Depression scale/Larval survey | 400 | 2 | 45/60
Informal Interview | 3 | 1 | 30/60
In-depth Interview | 7 | 1 | 30/60
Focus Groups | 10 | 2 | 1.5
Larval Survey (sub-sample) | 80 | 3 | 30/60

Dated: April 28, 2004.
Alvin Hall,
Director, Management Analysis and Services Office, Centers for Disease Control and Prevention.

[FR Doc. 04-10290 Filed 5-5-04; 8:45 am]

BILLING CODE 4163-18-P